DEPARTMENT OF ENERGY

Federal Energy Regulatory Commission

[Docket No. AD14-1-000]

Notice Announcing Workshop; Zero Rate Reactive Power Rate Schedules

Concurrent with this notice, the Commission is issuing an order in Chehalis Power Generating, L.P., Docket No. ER05-1056-007 clarifying its policy related to jurisdictional reactive power rate schedules.¹ In that order, the Commission finds that, on a prospective basis, for any jurisdictional reactive power service (including within-the-deadband reactive power service) provided by both new and existing generators, the rates, terms, and conditions for such service must be pursuant to a rate schedule on file with the Commission, even when that rate schedule provides no compensation for such service. As set forth in that order, the Commission directed staff to conduct a workshop, in a generic proceeding, to explore the mechanics of public utilities filing reactive power rate schedules for which there is no compensation.

¹ Chehalis Power Generating, L.P., 145 FERC ¶ 61,052 (2013).

Take notice that the Commission intends to hold a staff-led workshop open to the public at a time and date to be announced to explore the process for filing reactive power rate schedules for which there is no compensation. A subsequent notice will be issued in this docket setting forth the details of the workshop.

Dated: October 17, 2013.
Kimberly D. Bose,
Secretary.

[FR Doc. 2013-24740 Filed 10-22-13; 8:45 am]

BILLING CODE 6717-01-P